COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities, and deletes products and services previously furnished by such agencies.

DATES: Comments must be received on or before: August 16, 2020.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Product

NSN(s)—Product Name(s):

160001400S—ProPack, Rack and Hooks Kit, Army

Mandatory Source of Supply: Crowder Industries, Inc., Neosho, MO

Contracting Activity: DEPT OF THE ARMY, W6QK ACC-APG NATICK

Service

Service Type: 4PL Support Services

Mandatory for: Naval Base Ventura County, Port Hueneme, CA

Mandatory Source of Supply: The Lighthouse for the Blind, Inc. (Seattle Lighthouse), Seattle, WA

Contracting Activity: FEDERAL ACQUISITION SERVICE, GSA/FAS

Deletions

The following products and services are proposed for deletion from the Procurement List:

Products

NSN(s)—Product Name(s):

7520-01-483-8993—Stand, Calendar Pad, for 3″ x 3¾″ refill, Black

Mandatory Source of Supply: LC Industries, Inc., Durham, NC

Contracting Activity: GSA/FAS ADMIN SVCS ACQUISITION BR(2, NEW YORK, NY

NSN(s)—Product Name(s):

4220-00-926-9468—Vest, Life Preserver, USN, Red, Medium

Mandatory Source of Supply: Mississippi Industries for the Blind, Jackson, MS; Lions Volunteer Blind Industries, Inc., Morristown, TN

Contracting Activity: DLA TROOP SUPPORT, PHILADELPHIA, PA

NSN(s)—Product Name(s):

MR 402—Bag, Shopping Tote, Laminated, Small, “Live Sweet”

MR 403—Bag, Shopping Tote, Laminated, Small, “Live Well”

MR 404—Bag, Shopping Tote, Laminated, Large, “Live Spicy”

MR 405—Bag, Shopping Tote, Laminated, Fresh, “Live Fresh”

MR 406—Bag, Shopping Tote, Laminated, Large, “Live Sweet”

Mandatory Source of Supply: Industries for the Blind and Visually Impaired, Inc., West Allis, WI

Contracting Activity: Defense Commissary Agency

Services

Service Type: Administrative Services

Mandatory for: Milwaukee Federal Building and U.S. Courthouse, Milwaukee, WI

Mandatory Source of Supply: Milwaukee Center for Independence, Inc., Milwaukee, WI

Contracting Activity: GENERAL SERVICES ADMINISTRATION, FPDS AGENCY COORDINATOR

Service Type: Janitorial/Custodial

Mandatory for: Internal Revenue Service: 11631 Caroline Road, Philadelphia, PA

Contracting Activity: TREASURY, DEPARTMENT OF THE, DEPT OF TREAS/

Service Type: Telephone/Switchboard Operator

Mandatory for: VA Northern California Health Care System, Martinez, CA

Mandatory Source of Supply: Project Hired, San Jose, CA

Contracting Activity: VETERANS AFFAIRS, DEPARTMENT OF, 261-NETWORK CONTRACT OFFICE 21

Service Type: Telephone/Switchboard Operator

Mandatory for: Department of Veterans Affairs, VA Northern California Health Care System, 10535 Hospital Way, Sacramento, CA

Mandatory Source of Supply: Project Hired, San Jose, CA

Contracting Activity: VETERANS AFFAIRS, DEPARTMENT OF, 261-NETWORK CONTRACT OFFICE 21

Service Type: Document Destruction

Mandatory for: VA North Clinic: 916 W Owens Avenue, Las Vegas, NV

Mandatory for: VA Central Clinic: 901 Rancho Lane, Las Vegas, NV

Mandatory for: VA Administration: 1841 E. Craig Road, Ste. B Warehouse, Las Vegas, NV

Mandatory for: VA Administration #2: 2455 W. Cheyenne, Ste. 102, Las Vegas, NV

Mandatory for: VA West Clinic: 630 S Rancho Road, Las Vegas, NV

Mandatory for: VA Loma Linda Healthcare System: 11201 Benton Street, Loma Linda, CA

Mandatory Source of Supply: Goodwill Industries of Southern California, Panarama City, CA

Contracting Activity: VETERANS AFFAIRS, DEPARTMENT OF, NAC

Service Type: Janitorial/Custodial

Mandatory for: Defense Enterprise Computing Center (DECC) Mechanicsburg: Building 309T and 504B, Mechanicsburg, PA

Mandatory Source of Supply: Goodwill Services, Inc., Harrisburg, PA

Contracting Activity: DEFENSE INFORMATION SYSTEMS AGENCY (DISA), IT CONTRACTING DIVISION—PL83

Michael R. Jurkowski,
Deputy Director, Business & PL Operations.

[FR Doc. 2020-15514 Filed 7-16-20; 8:45 am]

BILLING CODE 6353-01-P